ENVIRONMENTAL PROTECTION AGENCY

40 CFR Part 52

[EPA-R10-OAR-2015-0855; FRL-9942-14-Region 10]

Approval and Promulgation of Implementation Plans; Idaho: Interstate Transport Requirements for the 2010 Nitrogen Dioxide National Ambient Air Quality Standards

AGENCY: Environmental Protection Agency (EPA).

ACTION: Proposed rule.

SUMMARY: The Environmental Protection Agency (EPA) is proposing to approve a submittal by the Idaho Department of Environmental Quality (Idaho DEQ) demonstrating that the State Implementation Plan (SIP) meets certain interstate transport requirements of the Clean Air Act (CAA) for the National Ambient Air Quality Standards (NAAQS) promulgated for nitrogen dioxide (NO2) on January 22, 2010. Specifically, the Idaho DEQ reviewed monitoring and modeling data to show that sources within Idaho do not significantly contribute to nonattainment, or interfere with maintenance, of the NO2 NAAQS in any other state.

DATES: Comments must be received on or before March 14, 2016.

ADDRESSES: Submit your comments, identified by Docket ID No. EPA-R10-OAR-2015-0855 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, the full EPA public comment policy, information about CBI or multimedia submissions, and general guidance on making effective comments, please visit http://www2.epa.gov/dockets/commenting-epa-dockets.

Docket: All documents in the electronic docket are listed in the http://www.regulations.gov index. Although listed in the index, some information is not publicly available, i.e., CBI or other information that is restricted by statute from disclosure. Certain other material, such as copyrighted material, is not placed on the Internet and will be publicly available only in hard copy form. Publicly available docket materials are available at http://www.regulations.gov or at EPA Region 10, Office of Air, Waste and Toxics, 1200 Sixth Avenue, Seattle, Washington 98101. The EPA requests that you contact the person listed in the FOR FURTHER INFORMATION CONTACT section to schedule your inspection. The Regional Office's official hours of business are Monday through Friday, 8:30 to 4:30, excluding Federal holidays.

FOR FURTHER INFORMATION CONTACT: For information please contact John Chi at (206) 553-1185, or chi.john@epa.gov.

SUPPLEMENTARY INFORMATION: Throughout this document wherever “we,” “us,” or “our” is used, it is intended to refer to the EPA.

Table of Contents

I. Background

II. Evaluation

III. Proposed Action

IV. Statutory and Executive Orders Review

I. Background

On January 22, 2010, the EPA established a primary NO2 NAAQS at 100 parts per billion (ppb), averaged over one hour, supplementing the existing annual standard (75 FR 6474). Within three years after promulgation of a new or revised standard, states must submit SIPs meeting the requirements of CAA sections 110(a)(1) and (2), often referred to as infrastructure requirements. On December 24, 2015, the Idaho DEQ submitted a SIP revision to address CAA section 110(a)(2)(D)(i)(I) requirements. The submittal included monitoring and modeling data analysis to demonstrate that sources within Idaho do not significantly contribute to nonattainment, or interfere with maintenance, of the 2010 NO2 and 2010 sulfur dioxide NAAQS in any other state. This action addresses the 2010 NO2 NAAQS only. We intend to address the 2010 sulfur dioxide NAAQS in a separate, future action.

II. Evaluation

CAA section 110(a)(2)(D)(i)(I) requires state SIPs to contain adequate provisions prohibiting any source or other type of emissions activity within a state from contributing significantly to nonattainment, or interfering with maintenance of the NAAQS in any other state.

In the December 24, 2015 submittal, the Idaho DEQ reviewed air quality monitoring data for the United States and found that all monitored areas in the country met the 2010 NO2 NAAQS for the design value period 2008 through 2010. The Idaho DEQ also reviewed estimated background concentrations for the 1-hour NO2 standard for the design value period 2009 through 2011. The modeled design values for that period were well below the 1-hour NO2 NAAQS of 100 ppb. The Idaho DEQ concluded that based on monitoring data and modeled background concentrations Idaho does not significantly contribute to nonattainment, or interfere with maintenance, of the 2010 NO2 NAAQS in any other state.

In addition to reviewing Idaho's submittal, the EPA reviewed more recent monitoring data for NO2 throughout the United States. Using previous EPA methodology,¹ EPA evaluated specific monitors identified as having nonattainment and/or maintenance problems, which we refer to as “receptors.” EPA identifies nonattainment receptors as any monitor that has violated the NO2 NAAQS in the most recent three-year period. Meanwhile, EPA identifies NO2 maintenance receptors as any monitor that violated the NO2 NAAQS in either of the prior monitoring cycles (2010-2012 and 2011-2013), but attained in the most recent monitoring cycle (2012-2014). During the three most recent design value periods of 2010 through 2012, 2011 through 2013, and 2012 through 2014, we found no monitors violating the 2010 NO2 NAAQS in the United States.² Using this methodology, the EPA found no monitors meeting the criteria as a nonattainment receptor and/or as a maintenance receptor. Further, we note that available information indicates that monitored values are well below the 100 ppb 1-hour NO2 NAAQS in states bordering Idaho. The highest design value in bordering states for the most recent period is 68 ppb, at Utah County, Utah, as shown in the table below.

¹ See NOX SIP Call, 63 FR 57371 (October 27, 1998); CAIR, 70 FR 25172 (May 12, 2005); and Transport Rule or Cross-State Air Pollution Rule, 76 FR 48208 (August 8, 2011).

² http://www.epa.gov/airtrends/values.html.

Table 1—1-Hour NO2 NAAQS Design Values in States Bordering Idaho
State | County | Site | 2012-2014 DV (ppb)
MT | Rosebud | 300870001 | 7
NV | Washoe | 320310016 | 54
OR | Multnomah | 410510080 | 35
UT | Cache | 490050004 | 49
UT | Carbon | 490071003 | 31
UT | Salt Lake | 490353006 | 55
UT | Utah | 490490002 | 68
WY | Campbell | 560050892 | 35
WY | Fremont | 560130099 | 5
WY | Sublette | 560350101 | 22
WY | Sweetwater | 560370300 | 20
WY | Uinta | 560410101 | 12

The EPA also reviewed regulatory provisions to control future new sources of nitrogen oxide emissions in Idaho. We note that on April 17, 2014, we approved Idaho's NO2 infrastructure SIP (79 FR 21669). In that action, we stated that Idaho generally regulates emissions of nitrogen oxides through its SIP-approved new source review permitting programs and operating permit regulations. Idaho's new source review permitting rules are found at IDAPA 58.01.01.200 through 228. These rules help ensure that no new or modified source of nitrogen oxides will cause or contribute to violation of the NO2 NAAQS. In addition, Idaho's Tier II operating permit regulations at IDAPA 58.01.01.400 through 410 require that to obtain an operating permit, the applicant must demonstrate the source will not cause or significantly contribute to a violation of any ambient air quality standard. These rules state that Idaho DEQ will require a Tier II source operating permit if Idaho DEQ determines emission rate reductions are necessary to attain or maintain any ambient air quality standard or applicable prevention of significant deterioration increment.

Based on our review of the Idaho submittal, air quality monitoring data, and provisions in the current Federally-approved Idaho SIP regulating new sources, we believe it is reasonable to conclude that emissions from Idaho do not significantly contribute to nonattainment of the 2010 NO2 NAAQS. We also do not expect the monitors in states bordering Idaho, identified in Table 1 above, to have difficulty maintaining the 2010 NO2 NAAQS. We believe it is reasonable to conclude that emissions from Idaho do not interfere with maintenance of the 2010 NO2 NAAQS in any other state.

III. Proposed Action

The EPA has reviewed the December 24, 2015 submittal from the Idaho DEQ demonstrating that sources in Idaho do not significantly contribute to nonattainment, or interfere with maintenance, of the NO2 NAAQS in any other state. We have also reviewed recent monitoring data and regulatory provisions in the Federally-approved Idaho SIP. Based on our review, we are proposing to find that the Idaho SIP meets the CAA section 110(a)(2)(D)(i)(I) interstate transport requirements for the 2010 NO2 NAAQS.

IV. Statutory and Executive Orders Review

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian Tribe has demonstrated that a Tribe has jurisdiction. In those areas of Indian country, the rule does not have Tribal implications as specified by Executive Order 13175 (65 FR 67249, November 9, 2000).

List of Subjects in 40 CFR Part 52

Environmental protection, Air pollution control, Incorporation by reference, Intergovernmental relations, Nitrogen dioxide, Reporting and recordkeeping requirements.

Dated: January 27, 2016.
Dennis J. McLerran,
Regional Administrator, Region 10.

[FR Doc. 2016-02846 Filed 2-11-16; 8:45 am]

BILLING CODE 6560-50-P